DEPARTMENT OF COMMERCE

International Trade Administration

[A-122-814]

Pure Magnesium From Canada; Final Results of Full Sunset Review

AGENCY: Import Administration, International Trade Administration, Department of Commerce.

ACTION: Notice of Final Results of Full Sunset Review: Pure Magnesium from Canada.

SUMMARY: On August 2, 1999, the Department of Commerce (“the Department”) initiated a sunset review of the antidumping duty order on pure magnesium from Canada (64 FR 41915) pursuant to section 751(c) of the Tariff Act of 1930, as amended (“the Act”). On the basis of a notice of intent to participate filed on behalf of domestic interested parties and adequate substantive comments filed on behalf of domestic and respondent interested parties, the Department determined to conduct a full review. As a result of this review, the Department finds that revocation of the antidumping duty order would likely lead to continuation or recurrence of dumping at the levels indicated in the Final Results of Review section of this notice.

EFFECTIVE DATE: July 5, 2000.

FOR FURTHER INFORMATION CONTACT: Martha V. Douthit or James P. Maeder, Office of Policy for Import Administration, International Trade Administration, U.S. Department of Commerce, 14th Street and Constitution Avenue, NW., Washington, DC 20230; telephone: (202) 482-5050 or (202) 482-3330, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On February 29, 2000, the Department published the preliminary results of the sunset review of the antidumping duty order on pure magnesium from Canada (65 FR 10768 ). In the preliminary results, the Department determined that it is likely that dumping of the subject merchandise would continue or recur if the order were revoked because imports of the subject merchandise decreased by more than 97 percent in the year following the issuance of the order. In addition, imports of pure magnesium from Canada have consistently remained at less than 10 percent of their pre-order levels. Therefore, consistent with section II.A.3 of the Department's Sunset Policy Bulletin, and with the Statement of Administrative Action at 889-90, and the House Report at 63 (H.R. Rep. No. 103-826, pt.1 (1994), at 63)), we preliminarily determined that although dumping was eliminated by Norsk Hydro Canada Inc. (“NHCI”)(the only respondent participating in this sunset review) export volumes by NHCI have declined significantly since the issuance of the order.¹ As a result, we determined that Canadian imports of pure magnesium would likely continue or recur if the order were revoked at the weighted-average dumping margin assessed in the original investigation.

¹ On August 4, 1999, the Government of Quebec (“GOQ”) entered an appearance in this sunset review as an interested party in accordance with 19 CFR 351.102(b). The GOQ also submitted application for access to business proprietary information under an administrative protection order and, pursuant to 19 CFR 351.305(b), the appropriate certification. However, the GOQ did not file any written comments.

On April 19, 2000, we received a case brief on behalf of NHCI.² On April 20, 2000, we received rebuttal comments from Magnesium Corporation of America (“Magcorp”) in response to NHCI's case brief.

² On April 10, 2000, NHCI submitted its case brief in response to the Department's preliminary determination. However, because NHCI's case brief contained new factual information, the Department removed NHCI's case brief from the record. The Department granted NHCI until close of business day (“COB”), Wednesday, April 19, 2000, to amend and re-file its case brief. Therefore, the new date for the filing of rebuttal briefs was COB, Thursday, April 20, 2000.

Scope of Review

The merchandise subject to this antidumping duty order is pure magnesium from Canada. Pure magnesium is currently classifiable under item number 8104.11.0000 of the Harmonized Tariff Schedule of the United States (“HTSUS”). Pure unwrought magnesium contains at least 99.8 percent magnesium by weight and is sold in various slab and ingot forms and sizes. Granular and secondary magnesium are excluded from the scope of this review. Although the HTSUS subheading is provided for convenience and customs purposes, the written description remains dispositive.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated June 27, 2000, which is hereby adopted and incorporated by reference into this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce Building.

In addition, a complete version of the Decision Memo can be accessed directly on the Web at www.ita.doc.gov/import_admin/records/frn/, under the heading “Canada.” The paper copy and electronic version of the Decision Memorandum are identical in content.

Final Results of Review

We determine that revocation of the antidumping duty order on pure magnesium from Canada would be likely to lead to continuation or recurrence of dumping at the following weighted-average margins:

Manufacturer/Exporter | Margin (percent)
Norsk Hydro Canada Inc. | 21.00
Timminco Limited | (¹)
All Others | 21.00
¹ Excluded.

This five-year (“sunset”) review and notice are in accordance with sections 751(c), 752, and 777(i)(1) of the Act. This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

Dated: June 27, 2000.
Troy H. Cribb,
Acting Assistant Secretary for Import Administration.

[FR Doc. 00-16946 Filed 7-3-00; 8:45 am]

BILLING CODE 3510-DS-P